DEPARTMENT OF JUSTICE

Antitrust Division

Notice Pursuant to the National Cooperative Research and Production Act of 1993—Tree Care Industry Association

Notice is hereby given that, on July 14, 2008, pursuant to Section 6(a) of the National Cooperative Research and Production Act of 1993, 15 U.S.C. 5 4301 et seq. (“the Act”), Tree Care Industry Association (“TCIA”) has filed written notifications simultaneously with the Attorney General and the Federal Trade Commission disclosing additions or changes to its standards development activities. The notifications were filed for the purpose of extending the Acts provisions limiting the recovery of antitrust plaintiffs to actual damages under specified circumstances. Specifically, TCIA recently finalized and adopted: (a) ANSI A300 (Part 1)—2008 Pruning for Tree Care Operations—Tree, Shrub, and Other Woody Plant Management Standard Practices (Pruning); (b) ANSI A300 (Part 3)—2006 Supplemental Support Systems for Tree Care Operations—Tree, Shrub, and Other Woody Plant Maintenance—Standard Practices (Supplemental Support Systems); (c) ANSI A300 (Part 4)—2008 Lightning Protection Systems for Tree Care Operations—Tree, Shrub, and Other Woody Plant Management—Standard Practices (Lightning Protection Systems); (d) Accreditation Standards Draft 6 Version 2; (e) Green Industry Standards Dictionary; and (f) CTSP Policies and Procedures Draft 1 Version 2.

On September 8, 2004, TCIA filed its original notification pursuant to Section 6(a) of the Act. The Department of Justice published a notice in the Federal Register pursuant to Section 6(b) of the Act on October 4, 2004 (69 FR 59271).

The last notification was filed with the Department on November 27, 2006. A notice was published in the Federal Register pursuant to Section 6(b) of the Act on December 22, 2006 (71 FR 77061)

Patricia A. Brink,
Deputy Director of Operations, Antitrust Division.

[FR Doc. E8-18879 Filed 8-15-08; 8:45 am]

BILLING CODE 4410-11-M